NATIONAL SCIENCE FOUNDATION

Notice of Listening Session on Interoperability of Medical Devices, Data, and Platforms To Enhance Patient Care

AGENCY: Networking and Information Technology Research and Development (NITRD) National Coordination Office (NCO), National Science Foundation.

ACTION: Notice of listening session.

SUMMARY: This listening session will focus on the interoperability of medical devices, data, and platforms to enhance patient care. Federal stakeholders will listen to the community explore solutions that promote a shared future vision of next generation, interoperable, and intelligent health systems. The feedback received from the listening session will provide potential research directions for advancing medical device interoperability.

DATES: July 17, 2019.

ADDRESSES: The listening session will be held at the Food and Drug Administration (FDA), White Oak Campus, Silver Spring, MD. Registration is required for in-person attendance. For more information regarding registration and remote participation please see the listening session website: https://www.nitrd.gov/nitrdgroups/index.php?title=Medical-Device-Interoperability-2019.

FOR FURTHER INFORMATION CONTACT: Alex Thai at 202-459-9674 or email HITRD-Interoperability@nitrd.gov. Individuals who use a telecommunications device for the deaf (TDD) may call the Federal Information Relay Service (FIRS) at 1-800-877-8339 between 8 a.m. and 8 p.m., Eastern time, Monday through Friday.

SUPPLEMENTARY INFORMATION:

Overview: This notice is issued on behalf of the NITRD Health Information Technology Research & Development (HITRD) Interagency Working Group (IWG). The HITRD IWG is conducting a listening session to engage experts from industry, academia, and government on solutions for advancing medical device interoperability. This listening session builds upon the February 2019 Request for Information (RFI): Action on Interoperability of Medical Devices, Data, and Platforms to Enhance Patient Care in which the HITRD IWG inquired whether a vision of sustained interoperability in the hospital and into the community is feasible and, if so, potential solutions to achieve this goal. Further details of the RFI can be found at 84 FR 4544 (February 15, 2019). Responses to the RFI are available on the NITRD website: HITRD-RFI-Responses-2019.

The listening session will take place on July 17, 2019 from 8:00 a.m. to 5:00 p.m. ET at the Food and Drug Administration (FDA), White Oak Campus, Silver Spring, MD. Space is limited, participation is open to the public on a first-come, first-served basis. Registration is required for in-person attendance and will be closed once we reach capacity. Please see the listening session website for more information on registration and remote participation: https://www.nitrd.gov/nitrdgroups/index.php?title=Medical-Device-Interoperability-2019.

Listening Session Goals: HITRD members will use information gathered from this listening session to develop an actionable report to advance medical device interoperability.

Listening Session Objectives: Gather information from the community on the following six topic areas identified from the RFI Responses

• Data, metadata

• Access to control of devices

• Leadership and governance

• Incentives

• Management and modernization of standards

• Infrastructure, tools, and use cases

References:

• 84 FR 4544 (February 2019): https://www.federalregister.gov/documents/2019/02/15/2019-02519/request-for-information-action-on-interoperability-of-medical-devices-data-and-platforms-to-enhance

• HITRD-RFI-Responses-2019: https://www.nitrd.gov/nitrdgroups/index.php?title=HITRD-RFI-Responses-2019

Submitted by the National Science Foundation in support of the Networking and Information Technology Research and Development (NITRD) National Coordination Office (NCO) on June 20, 2019.

(Authority: 42 U.S.C. 1861.)

Suzanne H. Plimpton,
Reports Clearance Officer, National Science Foundation.

[FR Doc. 2019-13466 Filed 6-24-19; 8:45 am]

BILLING CODE 7555-01-P